DEPARTMENT OF COMMERCE

National Oceanic and Atmospheric Administration

[I.D. 021207E]

South Atlantic Fishery Management Council; Public Meetings; Correction

AGENCY: National Marine Fisheries Service (NMFS), National Oceanic and Atmospheric Administration (NOAA), Commerce.

ACTION: Notice of public meetings; correction.

SUMMARY: The South Atlantic Fishery Management Council (Council) will hold a meeting of its Snapper Grouper Committee, Southeast Data, Assessment, and Review (SEDAR) Committee, Controlled Access Committee, Mackerel Committee, Scientific and Statistical Committee (SSC) Selection Committee, a joint meeting of its Habitat Committee and Ecosystem-Based Management Committee, Economics Committee, Shrimp Committee, Information and Education Committee, a joint meeting of its Executive Committee and Finance Committee, and a meeting of the full Council. In addition, the Council will also hold a public hearing regarding Amendment 18 to the Fishery Management Plan for Coastal Migratory Pelagics in the South Atlantic and Gulf of Mexico, and a general public input session. This document corrects an omitted agenda item for the March 6, 2007 meeting and adds a few words that were omitted from the March 8, 2007 meeting.

DATES: The meetings will be held in March 2007.

ADDRESSES: The meeting will be held at the Jekyll Island Club Hotel, 371 Riverview Drive, Jekyll Island, GA, 31527; Telephone: (1-800) 535-9547 or 912/635-2600, FAX 912/635-2818. Copies of documents are available from Kim Iverson, Public Information Officer, South Atlantic Fishery Management Council, 4055 Faber Place Drive, Suite 201, North Charleston, SC 29405.

FOR FURTHER INFORMATION CONTACT: Kim Iverson, Public Information Officer; telephone: 843/571-4366 or toll free at 866/SAFMC-10; fax: 843/769-4520; email: kim.iverson@safmc.net.

SUPPLEMENTARY INFORMATION: This document corrects a notice that published at 72 FR 7608, February 16, 2007, by correctly adding an omitted agenda item for the March 6, 2007 meeting and by correctly adding a few words that were omitted from the March 8, 2007 meeting. All other text has been unchanged and will not be repeated here. The two corrections are set out as follows:

Correction

1. On page 7609, in column 2, an agenda item is correctly added to the March 6, 2007 meeting to read as follows:

March 6, 2007, 6:30 p.m.-(or immediately following the Mackerel Public Hearing), a scoping session on annual catch limits and accountability measures (addressing recent amendments to the Magnuson-Stevens Fishery Conservation and Management Act) will be conducted by the National Marine Fisheries Service. Following the scoping session, the Council will conduct a listening session to receive public input on revising NOAA procedures to integrate the National Environmental Policy Act into the Magnuson-Stevens Fishery Conservation and Management Act as specified in the recent amendments to the Act.

2. On page 7609, in column 2, the Shrimp Committee Meeting is corrected to read as follows:

8. Shrimp Committee Meeting, March 8, 2007, 8 a.m. until 10 a.m.

The Shrimp Committee will review a report of the Shrimp Review Panel and provide recommendations, receive an overview of the “use it or lose it” provision for the rock shrimp fishery and develop recommendations, discuss additional items to include in Amendment 6 to the Shrimp FMP and make recommendations, and address framework action to revise the list of allowable bycatch reduction devices for the southeastern shrimp fishery.

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda is subject to change.

Special Accommodations

These meetings are physically accessible to people with disabilities. Requests for sign language interpretation or other auxiliary aids should be directed to the Council office (see ADDRESSES) by March 1, 2007.

Dated: February 22, 2007.
Tracey L. Thompson,
Acting Director, Office of Sustainable Fisheries, National Marine Fisheries Service.

[FR Doc. E7-3279 Filed 2-26-07; 8:45 am]

BILLING CODE 3510-22-S